DEPARTMENT OF LABOR

Employment and Training Administration

[TA-W-70,827]

Formtech Industries, LLC, Minerva Division; Minerva, OH; Notice of Affirmative Determination Regarding Application for Reconsideration

By application dated December 22, 2009, the United Steel Workers requested administrative reconsideration of the negative determination regarding workers' eligibility to apply for Trade Adjustment Assistance (TAA) applicable to workers and former workers of the subject firm. The determination was issued on November 5, 2009. The Notice of Determination will soon be published in the Federal Register.

The initial investigation resulted in a negative determination based on the finding that imports of steel forgings did not contribute importantly to worker separations at the subject firm and no shift of production to a foreign source occurred.

In the request for reconsideration, the petitioner provided additional information regarding customers of the subject firm and imports of steel forgings and like or directly competitive products.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 21st day of January 2010.
Del Min Amy Chen,
Certifying Officer, Division of Trade Adjustment Assistance.

[FR Doc. 2010-3015 Filed 2-12-10; 8:45 am]

BILLING CODE 4510-FN-P